FEDERAL MARITIME COMMISSION

Sunshine Act Meeting

Time and Date: 10 p.m.—October 2, 2002.

Place: 800 North Capitol Street, NW., First Floor Hearing Room, Washington, DC.

Status: Closed.

Matters to be Considered: 1. Controlled Carrier Issues.

Contact Person for More Information: Bryant L. VanBrakle, Secretary, (202) 523-5725.

Bryant L. VanBrakle,
Secretary.

[FR Doc. 02-24834 Filed 9-25-02; 4:52 pm]

BILLING CODE 6730-01-M